DEPARTMENT OF STATE

[Public Notice 3508]

Bureau of Educational and Cultural Affairs Request for Grant Proposals: College and University Affiliations Program With Serbia

SUMMARY: The Office of Global Educational Programs of the Bureau of Educational and Cultural Affairs announces an open competition for an assistance award program to support the reform of higher education in the Republic of Serbia, within the Federal Republic of Yugoslavia. Accredited, post-secondary educational institutions meeting the provisions described in IRS regulation 26 CFR 1.501(c) may submit proposals to pursue institutional or departmental objectives through international partnerships with counterpart institutions in Serbia. These objectives should support the overall goals of the Program: to assist the process of democratization in Serbia by facilitating the development of comprehensive plans for educational reform; and to strengthen mutual understanding and cooperation among U.S. and Serbian educational institutions on themes of common interest to the United States and to the participating colleges and universities, specified below. To achieve these objectives, an applicant and its partner(s) may propose approaches including teaching, scholarship, and outreach to professionals and other members of the communities served by the participating institutions. Eligible fields are economics, political science, social sciences, communications, journalism, and law.

Program Information

Underlying the specific institutional objectives of the project funded by this program should be the goals of encouraging the growth of freedom and democracy in Serbia through a deepened understanding of fundamental issues and practical applications in the development of civil society, economic stability and prosperity, or the free flow of information. Innovative strategies to address these underlying concerns in the pursuit of clearly defined institutional objectives are encouraged. Outreach from academic institutions to larger communities of citizens and practitioners to extend understanding about these issues is also encouraged.

Funds available under this year's program are restricted to the support of linkages with institutions in Serbia. Please consult with the program office regarding future opportunities for linkages elsewhere in Yugoslavia.

In addition, the Bureau supports institutional linkages in higher education with partners from the New Independent States of the former Soviet Union through the NIS College and University Partnerships Program (NISCUPP) and the NIS Community College Partnerships Program (NISCCPP). A Request for Grant Proposals for NISCUPP was announced on July 27, 2000 with a deadline of January 19, 2001. Community Colleges wishing to pursue partnership projects with counterpart institutions in Georgia, Kazakhstan, Moldova, Russia, Ukraine, or Uzbekistan may apply under the Request for Grant Proposals for the NISCCPP program, which was announced on November 9, 2000 with a deadline of February 23, 2001. A Request for Grant Proposals for an assistance award to support instruction and faculty training in Business Management, Entrepreneurship, and Public Administration at the University of Pristina, Kosovo, is currently open, with a deadline of March 14, 2001. The Bureau's support for institutional linkages in higher education is also provided through the College and University Affiliations Program for other world regions, including Europe. The annual Request for Grant Proposals for FY2002 is expected to be published in the spring of 2001. Applicants interested in any of these additional programs should contact the Bureau's Humphrey Fellowships and Institutional Linkages Branch at (202) 619-5289.

Applicant Objectives

In the College and University Affiliations Program with Serbia, partner institutions may pursue specific institutional goals with support from the Bureau of Educational and Cultural Affairs through exchanges of teachers and administrators for any appropriate combination of teaching, consultation, research, and outreach, for periods ranging from one week (for planning visits) to an academic year.

Both the U.S. and foreign participating institutions should benefit from the partnership, although the nature and scope of those benefits may differ. It is especially important that proposals outline well-reasoned strategies leading to specific, demonstrable changes at the department or institution in Serbia. For example, proposals may describe the parameters and possible content of new courses, new research or teaching capacities or methodologies, new or revised curricula or programs, or other changes anticipated as a result of the project. Proposals to pursue a limited number of related thematic objectives at each institution are preferred to proposals addressing a large number of unrelated objectives.

Proposals must focus on curriculum, faculty, and staff development at the Serbian partner institution(s) in one or more of the eligible disciplines. Administrative reform at the Serbian partner institution should also be a project component. Projects should involve the development of new academic programs or the building and/or restructuring of an existing program or programs, and should promote higher education's role in the transition to market economies and open democratic systems. Whenever feasible, the participating institutions should also make their resources, as well as the results of their collaborative work, available to the government, NGOs, and business community.

To provide adequate time to meet institutional project objectives, the Program awards grants for periods of approximately three years. The strategy for achieving project goals may include visits in either or both directions, but no single formula is anticipated for the duration, sequence, or number of these visits. However, visits of one semester or more for participants from each of the institutional partners are strongly encouraged. Programs must comply with J-1 visa regulations. Please refer to the Solicitation Package for further information.

Although strong budgetary and programmatic emphasis may be given to visits in one direction over another, the benefits of these visits to the sending as well as the receiving sides should be clearly explained in terms of their contributions to the departmental or institutional objectives that the project is designed to achieve. Exchange visits for the purpose of attending conferences are not encouraged except in combination with other grant activities and in support of specific educational objectives at one or more of the participating institutions.

In addition to demonstrating the capacity of each participating institution to contribute to its partner(s), proposals should also explain how this cooperation would enable each of the institutions to address its own needs. Accordingly, applicants are encouraged to describe the needs as well as the capabilities of each participating department as well as the broader social and educational needs which the partner institutions attempt to serve.

Effective proposals will explain the anticipated cooperation in ways that demonstrate that the institutions proposed for participation in the partnership clearly understand one another and are committed to support one another in project implementation. If the proposed partnership would occur within the context of a previous or on-going project, the proposal should explain how the request for Bureau funding would build upon the pre-existing relationship or complement previous and concurrent projects, which must be listed and described in an appendix with details about the amounts and sources of external support.

Proposals should outline a methodology for project evaluation. The evaluation plan should include an updated assessment of the current status of each participating department's and institution's needs at the time of program inception; ongoing formative evaluation to allow for prompt corrective action; and, at the conclusion of the project, summative evaluation of the degree to which the project's objectives have been achieved together with observations about the project's influence within the participating institutions and their surrounding communities or societies. The final evaluation should also include recommendations about how to build upon project achievements, both with and without the Bureau's support. Evaluative observations by external consultants with appropriate subject or regional expertise are especially encouraged. Proposal budgets should reflect evaluation plans.

Proposals must be submitted by the U.S. institutional partner and must include a letter of commitment from the foreign partner(s). Faxed letters are acceptable. The letters should be signed by persons authorized to commit institutional resources to the project. U.S. and foreign partner institutions are encouraged to consult about the proposed project with the Bureau's program officer in Washington, DC.

Costs

The commitment of all partner institutions to the proposed project should be reflected in the cost sharing which they offer in the context of their respective institutional capacities. Although the contributions offered by U.S. and foreign institutions with relatively few resources may be less than those offered by other applicants, all participating institutions are expected to identify costs to contribute. These costs may include the estimated costs of in-kind contributions for which funds are not exchanged (e.g., subsidized housing or homestays). Consistent with the “Review Criteria” for this competition listed elsewhere in this document and with specific reference to “Cost-Sharing” and “Institutional Commitment to Cooperation,” proposed cost-sharing will be considered an important indicator of each participating institution's interest in the project and of the institution's potential to benefit from it.

The Bureau's support may be used to defray the costs of the exchange visits as well as the costs (up to a maximum of 20 percent of the total grant) of their administration at any partner institution, including administrative salaries and direct administrative costs but excluding indirect costs. Although grants will be issued to the lead U.S. college or university, the administrative costs of the project at all partner institutions, including the foreign partner(s), should be included in the budget.

The proposal may include a request for funding to reinforce the activities of exchange participants through the establishment and maintenance of Internet and/or electronic mail communication facilities as well as through interactive technology or non-technology-based distance-learning programs. However, projects focusing primarily on technology or physical infrastructure development are not encouraged. Proposals that include Internet, electronic mail, and other interactive technologies should discuss how the foreign partner institution would support the costs of such technologies after the project ends. Applicants may propose other project activities not specifically anticipated in this solicitation if the activities reinforce exchange activities and their impact.

Bureau policy stipulates that awards to organizations with less than four years experience in conducting international exchanges are limited to $60,000. The Bureau anticipates awarding one grant not to exceed $228,750. Budgets and budget notes should carefully justify the amounts requested.

Projects must conform with the Bureau's requirements and guidelines outlined in the solicitation package for this RFGP, which can be obtained by following the instructions given in the section below entitled “For Further Information”. The Project Objectives, Goals, and Implementation (hereafter, POGI) and the Proposal Submission Instructions (hereafter, PSI), which contain additional guidelines, are included in the Solicitation Package. Proposals that do not follow RFGP requirements and the guidelines appearing in the POGI and PSI may be excluded from consideration due to technical ineligibility.

Eligible Fields

The College and University Partnership—Serbia Program is limited to the following academic fields: (1) Economic, political, social sciences; (2) journalism/communications; and (3) law.

U.S. Institution and Participant Eligibility

In the United States, participation in the program is open to accredited two-and four-year colleges and universities, including graduate schools. Applications from community colleges, minority-serving institutions, undergraduate liberal arts colleges, research universities, and combinations of these types of institutions are eligible. Applications from consortia or other combinations of U.S. colleges and universities are eligible. If the lead U.S. institution is responsible for submitting an application on behalf of a consortium, the application must document the lead institution's authority to represent the consortium. With the exception of outside evaluators on contract with the U.S. institution, participants representing the U.S. institution(s) who are traveling under Bureau grant funds should be faculty or staff from the participating institution(s) and must be U.S. citizens.

Foreign Institution and Participant Eligibility

In Serbia, participation is open to recognized institutions of post-secondary education, including pedagogical institutes and universities, technical institutes and universities, and vocational training schools. Secondary foreign partners may include non-profit service or professional organizations. Participants representing the foreign institutions must be faculty or staff of the primary or secondary partner institution, and be citizens, nationals, or permanent residents of the country of the foreign partner, and be qualified to hold a valid passport and U.S. J-1 visa.

Ineligibility

A proposal may be deemed technically ineligible if:

(1) It does not fully adhere to the guidelines established herein and in the Solicitation Package;

(2) It is not received by the deadline;

(3) It is not submitted by the U.S. partner;

(4) One of the partner institutions is ineligible;

(5) The academic discipline(s) is/are not listed as eligible in the RFGP, herein;

(6) The amount requested of the Bureau exceeds $228,750 for the three-year project.

Please refer to program-specific guidelines (POGI) in the Solicitation Package for further details.

Announcement Title and Number

All correspondence with the Bureau concerning this RFGP should reference the above title and number ECA/A/S/U-01-15.

FOR FURTHER INFORMATION CONTACT: The Humphrey Fellowships and Institutional Linkages Branch, Office of Global Educational Programs, Bureau of Educational And Cultural Affairs, ECA/A/S/U, Room 349, SA-44; U.S. Department of State, 301 4th Street, SW., Washington, DC 20547, phone: (202) 619-4097, fax: (202) 401-1433, email: johnsonmi@pd.state.gov to request a Solicitation Package. The Solicitation Package contains detailed award criteria, required application forms, specific budget instructions, and standard guidelines for proposal preparation. Please specify Bureau Program Officer Michelle Johnson on all inquiries and correspondence.

To Download a Solicitation Package Via Internet

The entire Solicitation Package may be downloaded from the Bureau's website at: http://exchanges.state.gov/education/rfgps. Please read all information before downloading.

Interested applicants should read the complete Federal Register announcement before sending inquiries or submitting proposals. Once the RFGP deadline has passed, Bureau staff may not discuss this competition in any way with applicants until the Bureau proposal review process has been completed.

Deadline for Proposals

All proposal copies must be received at the Bureau of Educational and Cultural Affairs by 5 p.m. Washington, DC time on February 5, 2001. Faxed documents will not be accepted at any time. Documents postmarked the due date but received on a later date will not be accepted. Each applicant must ensure that the proposals are received by the above deadline.

Applicants must follow all instructions in the Solicitation Package. The original and 10 copies of the application should be sent to: U.S. Department of State, SA-44, Bureau of Educational and Cultural Affairs, Ref.: ECA/A/S/U-01-15, Program Management, ECA/EX/PM, Room 534, 301 4th Street, SW., Washington, DC 20547.

Applicants must also submit the “Executive Summary” and “Proposal Narrative” sections of the proposal on a 3.5” diskette, formatted for DOS. These documents must be provided in ASCII text (DOS) format with a maximum line length of 65 characters. The Bureau will transmit these files electronically to the relevant State Department officers for review, with the goal of reducing the time it takes to get comments for the Bureau's grants review process.

Approximate program dates: Grants should begin on or about March 30, 2001.

Duration: Approximately March 30, 2001-March 30, 2004.

Diversity, Freedom, and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

Proposals are reviewed for adherence to legal and budgetary requirements by Bureau offices responsible for these functions. For program content, cost-effectiveness, and other criteria spelled out in the RFGP, the review is conducted by an advisory, assistance award-review panel composed of Bureau and Department officers. Additional officers, including geographic area personnel, also review proposals for feasibility as well as potential for short- and long-term impact. Final funding decisions are at the discretion of the Department of State's Assistant Secretary for Educational and Cultural Affairs. Final technical authority for assistance awards resides with a Bureau Grants Officer.

Review Criteria

State Department officers in Washington, D.C. and overseas will use the criteria below to reach funding recommendations and decisions. Technically eligible applications will be competitively reviewed according to the criteria stated below. These criteria are not rank ordered and all carry equal weight in the proposal evaluation:

1. Quality of the Program Idea and Cross-Cultural Sensitivity

Proposals should exhibit originality, substance, precision, and resourcefulness. Proposals should demonstrate an in-depth understanding of the region and the challenges facing Serbian educators and should describe how the proposed project will contribute toward higher education reform in Serbia.

2. Program Planning

Proposals should include creative, realistic, and feasible program plans and a detailed schedule, covering all program and support activities. Agenda and plan should adhere to the program overview and guidelines described above and should consist of goals that are achievable.

3. Support of Diversity

Proposals should demonstrate substantive support of the Bureau's policy on diversity by explaining how issues of diversity relate to project objectives and how these issues will be addressed during project implementation. Achievable and relevant features should be cited in both program administration (selection of participants, program venue and program evaluation) and program content (orientation and wrap-up sessions, program meetings, resource materials and follow-up activities).

4. Institutional Capacity

Proposed personnel and institutional resources should be adequate and appropriate to achieve the program or project's goals. A proposal should demonstrate a detailed understanding of university conditions in Serbia. Proposals should demonstrate a promise of long-term impact, as reflected in a plan for follow on activities.

5. Institution's Record/Ability

Proposals should demonstrate an institutional record of successful exchange programs, including responsible fiscal management and full compliance with all reporting requirements for past Bureau grants as determined by Bureau grants management and contracts staff. The Bureau will consider the past performance of prior recipients and the demonstrated potential of new applicants.

6. Follow-On Activities

Proposals should provide a plan for continued follow-on activity (without Bureau support) ensuring that Bureau supported programs are not isolated events.

7. Project Evaluation

Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

8. Cost-Effectiveness

Administrative and program costs should be reasonable and appropriate with cost sharing provided as a reflection of commitment to the pursuit of project objectives. Administrative costs should be kept to a minimum. Cost sharing, including contributions from the applicant or other sources should be included in the budget.

Grant Making Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through the Support for East European Democracy (SEED) Act of 1989.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: December 4, 2000.
William B. Bader,
Assistant Secretary for Educational and Cultural Affairs, U.S. Department of State.

[FR Doc. 00-31744 Filed 12-13-00; 8:45 am]

BILLING CODE 4710-05-P